DEPARTMENT OF TRANSPORTATION

Federal Aviation Administration

14 CFR Part 39

[Docket No. FAA-2012-0269; Directorate Identifier 2011-NM-105-AD; Amendment 39-17140; AD 2012-15-11]

RIN 2120-AA64

Airworthiness Directives; Dassault Aviation Airplanes

AGENCY: Federal Aviation Administration (FAA), Department of Transportation (DOT).

ACTION: Final rule.

SUMMARY: We are adopting a new airworthiness directive (AD) for certain Dassault Aviation Model FALCON 7X airplanes. This AD was prompted by a report that a passenger oxygen pipe at frame 10 was chafing against the forward lavatory rear structure, raising the risk of the oxygen pipe developing a crack. This AD requires modifying the routing of and, if necessary, replacing, the oxygen pipe. We are issuing this AD to prevent rupture of the oxygen pipe which, in case of a cabin depressurization, would impair operation of the passenger oxygen distribution system.

DATES: This AD becomes effective September 11, 2012.

The Director of the Federal Register approved the incorporation by reference of a certain publication listed in this AD as of September 11, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Tom Rodriguez, Aerospace Engineer, International Branch, ANM-116, Transport Airplane Directorate, FAA, 1601 Lind Avenue SW., Renton, Washington 98057-3356; telephone (425) 227-1137; fax (425) 227-1149.

SUPPLEMENTARY INFORMATION:

Discussion

We issued a notice of proposed rulemaking (NPRM) to amend 14 CFR part 39 to include an AD that would apply to the specified products. That NPRM was published in the Federal Register on March 20, 2012 (77 FR 16186). That NPRM proposed to correct an unsafe condition for the specified products. The MCAI states:

Inspections of two aeroplanes during cabin completions have shown that a passenger oxygen line at frame 10 was chafing with the forward lavatory rear structure.

Design review of the area confirmed a local low clearance value which raises the risk of the oxygen line developing a crack.

This condition, if not detected and corrected, could lead to rupture of the oxygen line which, in case of a cabin depressurization, would impair operation of the passengers' oxygen distribution system.

To address this unsafe condition, Dassault Aviation have designed a modification with a new oxygen line routing.

This AD requires an [general visual] inspection of the oxygen line for interference or damage and, in case of discrepancies [damage, or clearance less than 3 mm], accomplishment of the modification [including general visual inspections, and, if necessary, replacing the oxygen line/pipe] before next flight. It requires as well accomplishment of the modification of the oxygen line routing for the aeroplanes in which [clearance of 3 mm or more but less than 12 mm] were identified.

You may obtain further information by examining the MCAI in the AD docket.

Comments

We gave the public the opportunity to participate in developing this AD. We received no comments on the NPRM (77 FR 16186, March 20, 2012) or on the determination of the cost to the public.

Conclusion

We reviewed the available data and determined that air safety and the public interest require adopting the AD as proposed—except for minor editorial changes. We have determined that these minor changes:

• Are consistent with the intent that was proposed in the NPRM (77 FR 16186, March 20, 2012) for correcting the unsafe condition; and

• Do not add any additional burden upon the public than was already proposed in the NPRM (77 FR 16186, March 20, 2012).

Costs of Compliance

We estimate that this AD will affect about 11 products of U.S. registry. We also estimate that it will take about 11 work-hours per product to comply with the basic requirements of this AD. The average labor rate is $85 per work-hour. Based on these figures, we estimate the cost of this AD to the U.S. operators to be $10,285, or $935 per product.

In addition, we estimate that any necessary follow-on actions would take about 16 work-hours and require parts costing $655, for a cost of $2,015 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM 77 FR 16186, March 20, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-15-11 Dassault Aviation: Amendment 39-17140. Docket No. FAA-2012-0269; Directorate Identifier 2011-NM-105-AD.

(a) Effective Date

This airworthiness directive (AD) becomes effective September 11, 2012.

(b) Affected ADs

None.

(c) Applicability

This AD applies to Dassault Aviation Model FALCON 7X airplanes, certificated in any category, serial numbers 3, 10, 13, 18, 19, 20, 22, 23, 24, 26, 27, 29, 30, 31, 32, 33, 35, 36, 38, 41, 42, 43, 47, 48, 58, 63, 64, 66, 67, 68, 71, 76, 78, 79, 83, 84, 85, 86, 87, and 93; except for airplanes on which the Dassault Aviation modification specified in Dassault Mandatory Service Bulletin 7X-174 has been incorporated.

(d) Subject

Air Transport Association (ATA) of America Code 35: Oxygen.

(e) Reason

This AD was prompted by a report that a passenger oxygen pipe at frame 10 was chafing against the forward lavatory rear structure, raising the risk of the oxygen pipe developing a crack. We are issuing this AD to prevent rupture of the oxygen pipe which, in case of a cabin depressurization, would impair operation of the passenger oxygen distribution system.

(f) Compliance

You are responsible for having the actions required by this AD performed within the compliance times specified, unless the actions have already been done.

(g) Inspection

Within 2 months after the effective date of this AD, do a boroscope inspection of the passenger oxygen pipe for clearance and a general visual inspection for damage of the oxygen pipe, in accordance with the Accomplishment Instructions of Dassault Mandatory Service Bulletin 7X-174, dated March 10, 2011.

(h) Corrective Actions

If during any inspection required by paragraph (g) of this AD any damage is found or oxygen pipe clearance is less than 3 millimeters (mm) (0.12 inch): Before further flight, modify the oxygen pipe routing, including doing a general visual inspection for chafing of the pipe and doing all applicable replacements, in accordance with the Accomplishment Instructions of Dassault Mandatory Service Bulletin 7X-174, dated March 10, 2011.

(i) Oxygen Pipe Routing Modification

If, during any inspection required by paragraph (g) of this AD, oxygen pipe clearance is 3 mm (0.12 inch) or more but less than 12 mm (0.47 inch): Within 98 months or 4,000 flight cycles after the effective date of this AD, whichever occurs first, modify the routing of the passenger oxygen pipe, including doing a general visual inspection for chafing of the pipe and doing all applicable replacements, in accordance with the Accomplishment Instructions of Dassault Mandatory Service Bulletin 7X-174, dated March 10, 2011.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, Washington 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

Refer to MCAI European Aviation Safety Agency (EASA) Airworthiness Directive 2011-0070, dated April 18, 2011; and Dassault Mandatory Service Bulletin 7X-174, dated March 10, 2011; for related information.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Dassault Mandatory Service Bulletin 7X-174, dated March 10, 2011.

(ii) Reserved.

(3) For Dassault service information identified in this AD, contact Dassault Falcon Jet, P.O. Box 2000, South Hackensack, New Jersey 07606; telephone 201-440-6700; Internet http://www.dassaultfalcon.com.

(4) You may review copies of the service information at the FAA, Transport Airplane Directorate, 1601 Lind Avenue SW., Renton, WA. For information on the availability of this material at the FAA, call 425-227-1221.

(5) You may also review copies of the service information that is incorporated by reference at the National Archives and Records Administration (NARA). For information on the availability of this material at an NARA facility, call 202-741-6030, or go to http://www.archives.gov/federal_register/code_of_federal_regulations/ibr_locations.html.

Issued in Renton, Washington, on July 20, 2012.
Kalene C. Yanamura,
Acting Manager, Transport Airplane Directorate, Aircraft Certification Service.

[FR Doc. 2012-18582 Filed 8-6-12; 8:45 am]

BILLING CODE 4910-13-P